DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Columbia County, Florida and Incorporated Areas
FEMA Docket No.: B-7702
Cannon Creek | Approximately 450 feet upstream of the confluence with Clay Hole Creek | +70 | Columbia County (Unincorporated Areas).
| Approximately 650 feet upstream of Quail Heights Boulevard | +136
Montgomery Outlet Stream | Approximately 900 feet upstream of the confluence with Alligator Lake | +104 | City of Lake City.
| At the confluence with Lake Montgomery | +131
Lake Montgomery Rose Creek | Entire shoreline | +130.8 | City of Lake City.
| Approximately 1,350 feet upstream of the confluence with Clay Hole Creek | +50 | Columbia County (Unincorporated Areas).
| Approximately 600 feet upstream of SW Tustennugee Avenue | +88
Ponding Area 1 | An approximately 77 acre area at the intersection of Upchurch Road and Prairie Road | +91.3 | Columbia County (Unincorporated Areas).
Ponding Area 2 | An approximately 10 acre area at the intersection of Troy Road and Callanan Road | +93.6 | Columbia County (Unincorporated Areas).
Ponding Area 3a | An approximately 25 acre area at the intersection of County Road 252 and Holly Drive | +103.2 | Columbia County (Unincorporated Areas).
Ponding Area 3b | An approximately 5 acre area at the intersection of Pine Lane and Forest Avenue | +107.7 | Columbia County (Unincorporated Areas).
Ponding Area 3c | An approximately 5 acre area just west of Cherokee Road | +104.2 | Columbia County (Unincorporated Areas).
Ponding Area 3d | An approximately 11 acre area just east of Cherokee Road | +104.5 | Columbia County (Unincorporated Areas).
Ponding Area 3e | An approximately 5 acre area just east of Johnathan Road | +105.3 | Columbia County (Unincorporated Areas).
* National Geodetic Vertical Datum.
+ North American Vertical Datum.
# Depth in feet above ground.
ADDRESSES
Columbia County (Unincorporated Areas)
Maps are available for inspection at the Columbia County Courthouse, 173 Northeast Hernando Avenue, Lake City, Florida.
Send comments to Mr. Dale Williams, Columbia County Manager, P.O. Box 1529, Lake City, Florida 32056-1529.
City of Lake City
Maps are available for inspection at the Lake City City Hall, 205 North Marion Avenue, Lake City, Florida.
Send comments to Mr. Grayson Cason, Lake City City Manager, 205 North Marion Avenue, Lake City, Florida 32055.
Gadsden County, Florida, and Incorporated Areas
FEMA Docket No.: B-7746
Holley Branch | Approximately 2,500 feet upstream of the confluence with Ochlockonee River | +86 | Unincorporated Areas of Gadsden County, City of Midway.
| Approximately 4,300 feet upstream of Dupont Road | +123
Holley Branch Unnamed Tributary | At the confluence with Holley Branch | +91 | Unincorporated Areas of Gadsden County, City of Midway.
| Approximately 4,400 feet upstream of the confluence with Holley Branch | +101
Lake Talquin (Unnamed Tributary) | Approximately 1,100 feet upstream of the confluence with Lake Talquin | +75 | Unincorporated Areas of Gadsden County.
| Approximately 1.8 miles upstream of the confluence with Lake Talquin | +120
Monroe Creek | Approximately 1,400 feet upstream of the confluence with Little River | +86 | Unincorporated Areas of Gadsden County, City of Midway.
| Approximately 800 feet upstream of U.S. Highway 90 | +139
Mosquito Creek Unnamed Tributary | Just upstream of Martin Luther King Jr. Boulevard | +77 | City of Chattahoochee.
| Just downstream of East River Road | +103
Ochlockonee River Unnamed Tributary | Approximately 4,200 feet upstream of the confluence with Ochlockonee River | +100 | Unincorporated Areas of Gadsden County.
| Approximately 1.6 miles upstream of the confluence of Unnamed Tributary to Ochlockonee River Unnamed Tributary | +156
South Mosquito Creek | Approximately 1,670 feet upstream of the confluence with Mosquito Creek (just upstream of the Gadsden County/City of Chattahoochee corporate limit) | +81 | Unincorporated Areas of Gadsden County.
| Approximately 2,400 feet upstream of the confluence with South Mosquito Creek Unnamed Tributary | +81
South Mosquito Creek Unnamed Tributary | Approximately 200 feet upstream of the confluence with South Mosquito Creek | +81 | Unincorporated Areas of Gadsden County, City of Chattahoochee.
| Approximately 4,100 feet upstream of Depot Road | +118
Tanyard Branch | Approximately 1,200 feet upstream of the confluence with Quincy Creek | +118 | Unincorporated Areas of Gadsden County, City of Quincy.
| Approximately 180 feet upstream of Seventh Street | +182
Tanyard Branch Unnamed Tributary 1 | At the confluence with Tanyard Branch | +130 | City of Quincy.
| Approximately 150 feet upstream of Circle Drive | +162
Tanyard Branch Unnamed Tributary 2 | At the confluence with Tanyard Branch | +131 | Unincorporated Areas of Gadsden County, City of Quincy.
| Approximately 4,500 feet upstream of the confluence with Tanyard Branch | +146
Unnamed Tributary to Ochlockonee River Unnamed Tributary | At the confluence with Ochlockonee River Unnamed Tributary | +130 | Unincorporated Areas of Gadsden County, Town of Havana.
| Approximately 2,350 feet upstream of State Highway 12 | +152
* National Geodetic Vertical Datum.
+ North American Vertical Datum.
# Depth in feet above ground.
ADDRESSES
City of Chattahoochee
Maps are available for inspection at Chattahoochee City Hall, 22 Jefferson Street, Chattahoochee, FL.
City of Midway
Maps are available for inspection at Midway City Hall, 50 Martin Luther King Boulevard, Midway, FL.
City of Quincy
Maps are available for inspection at Quincy City Hall, 404 West Jefferson Street, Quincy, FL.
Town of Havana
Maps are available for inspection at Havana Town Hall, 711 North Main Street, Havana, FL.
FL Unincorporated Areas of Gadsden County
Maps are available for inspection at Gadsden County Administration Building, 5B East Jefferson Street, Quincy, FL.
Union County, Florida, and Incorporated Areas
FEMA Docket No.: B-7746
Santa Fe River Unnamed Tributary | Approximately 2,000 feet upstream of the confluence with the Santa Fe River | +73 | Town of Worthington Springs, Unincorporated Areas of Union County.
| Approximately 1,940 feet upstream of Southwest 43rd Trail | +113
* National Geodetic Vertical Datum.
+ North American Vertical Datum.
# Depth in feet above ground.
ADDRESSES
Town of Worthington Springs
Maps are available for inspection at Worthington Springs City Hall, State Road 121 3rd Avenue, Worthington Springs, FL.
FL Unincorporated Areas of Union County
Maps are available for inspection at Union County Office of Emergency Management, 58 Northwest 1st Street, Lake Butler, FL.
Bertie County, North Carolina and Incorporated Areas
Docket Nos.: FEMA-D-7668, FEMA-B-7751, FEMA-B-7749
Barbeque Swamp | Approximately 0.8 mile downstream of the Bertie/Hertford County boundary | +13 | Unincorporated Areas of Bertie County.
| Approximately 1.2 miles upstream of Meadow Road (State Road 1312) | +50
Beaverdam Swamp | At the confluence with Loosing Swamp | +32 | Unincorporated Areas of Bertie County.
| Approximately 2.5 miles upstream of the confluence with Loosing Swamp | +41
Black Walnut Swamp | Approximately 3.1 miles upstream of the confluence with Albemarle Sound | +6 | Unincorporated Areas of Bertie County.
| Approximately 4.4 miles upstream of the confluence with Albemarle Sound | +18
Brittons Creek | At the confluence with Roanoke River | +31 | Unincorporated Areas of Bertie County.
| Approximately 900 feet upstream of Black Jack Road (State Route 1135) | +48
Brittons Creek Tributary 1 | At the confluence with Brittons Creek | +38 | Unincorporated Areas of Bertie County.
| Approximately 1,900 feet upstream of the confluence with Brittons Creek | +53
Cashie River | Approximately 4.0 miles upstream of NC-45 | +7 | Unincorporated Areas of Bertie County, Town of Windsor.
| Approximately 1,150 feet upstream of the confluence of Cashie River Tributary 5 | +79
Cashie River Tributary 1 | Approximately 150 feet upstream of Peterson Lane | +9 | Unincorporated Areas of Bertie County, Town of Windsor.
| Approximately 2.4 miles upstream of the confluence of Cashie River Tributary 1A | +34
Cashie River Tributary 1A | At the confluence with Cashie River Tributary 1 | +9 | Unincorporated Areas of Bertie County, Town of Windsor.
| Approximately 300 feet upstream of Clark Avenue | +19
Cashie River Tributary 3 | At the confluence with Cashie River | +64 | Unincorporated Areas of Bertie County.
| Approximately 0.4 mile upstream of the confluence with Cashie River | +68
Cashie River Tributary 5 | At the confluence with Cashie River | +76 | Unincorporated Areas of Bertie County.
| Approximately 150 feet downstream of Harrells Siding Road (State Route 1208) | +80
Cashie Swamp | At the confluence with Cashie River | +58 | Unincorporated Areas of Bertie County.
| Approximately 1,500 feet upstream of Floyd Hall Road (State Route 437) | +82
Cashie Swamp Tributary 1 | At the confluence with Cashie Swamp | +61 | Unincorporated Areas of Bertie County.
| Approximately 0.5 mile upstream of the confluence of Cashie Swamp Tributary 1A | +74
Cashie Swamp Tributary 1A | At the confluence with Cashie Swamp Tributary 1 | +66 | Unincorporated Areas of Bertie County.
| Approximately 0.5 mile upstream of Piney Woods Road | +74
Cashie Swamp Tributary 2 | At the confluence with Cashie Swamp | +67 | Unincorporated Areas of Bertie County, Town of Kelford.
| Approximately 400 feet upstream of Railroad Street | +86
Cashie Swamp Tributary 3 | At the confluence with Cashie Swamp | +79 | Unincorporated Areas of Bertie County, Town of Kelford.
| Approximately 1,950 feet upstream of North Main Street (State Highway 308) | +89
Cashoke Creek | Approximately 50 feet upstream of State Highway 45 | +7 | Unincorporated Areas of Bertie County.
| Approximately 1,000 feet downstream of Sans Souci Road (State Route 1500) | +22
Cashoke Creek Tributary 1 | At the confluence with Cashoke Creek | +7 | Unincorporated Areas of Bertie County.
| Approximately 550 feet upstream of Cooper Hill Road (State Highway 308) | +33
Chinkapin Swamp | At the Bertie/Hertford County boundary | +14 | Unincorporated Areas of Bertie County, Town of Colerain.
| Approximately 2.2 miles upstream of NC 42 Highway | +48
Chiska Creek | At the confluence with Cashie River | +16 | Unincorporated Areas of Bertie County.
| Approximately 1.2 miles upstream of Governors Road (State Highway 308) | +50
Coniott Creek | At the confluence with Roanoke River | +20 | Unincorporated Areas of Bertie County.
| Approximately 0.7 mile upstream of Indian Woods Road (State Route 1108) | +40
Connaritsa Swamp | At the confluence with Cashie River | +31 | Unincorporated Areas of Bertie County.
| Approximately 0.6 mile upstream of Connaritsa Road (State Route 1200) | +63
Cricket Swamp | Approximately 100 feet upstream of NC 45 | +12 | Unincorporated Areas of Bertie County.
| Approximately 0.8 mile upstream of Holley Road (State Road 1354) | +50
Cucklemaker Creek | At the confluence with Hoggards Mill Creek | +27 | Unincorporated Areas of Bertie County.
| Approximately 1.8 miles upstream of Bull Hill Road (State Route 1301) | +37
Cypress Swamp | At the confluence with Chinkapin Swamp | +21 | Unincorporated Areas of Bertie County
| Approximately 0.7 mile upstream of Nowell Farm Road (State Road 1314) | +49
Eason Swamp | At the confluence with Loosing Swamp and Wildcat Swamp | +37 | Unincorporated Areas of Bertie County.
| Approximately 1.3 miles upstream of Sheriff Garrett Road (State Road 1246) | +47
Eastmost Swamp | Approximately 10 feet upstream of Nixon Road (State Road 1354) | +43 | Unincorporated Areas of Bertie County.
| Approximately 1,950 feet upstream of Perrytown Road (State Road 1344) | +58
Eastmost Swamp Tributary 1 | Approximately 20 feet upstream of Farless Road (State Road 1355) | +35 | Unincorporated Areas of Bertie County.
| Approximately 0.9 mile upstream of Farless Road (State Road 1355) | +38
Eastmost Swamp Tributary 2 | Approximately 20 feet upstream of NC 45 | +41 | Unincorporated Areas of Bertie County.
| Approximately 0.7 mile upstream of the confluence of Eastmost Swamp Tributary 2A | +48
Eastmost Swamp Tributary 2A | At the confluence with Eastmost Swamp Tributary 2 | +41 | Unincorporated Areas of Bertie County.
| Approximately 170 feet downstream of Blackrock Road (State Road 1358) | +51
Flag Run Gut | At the confluence with Roanoke River | +30 | Unincorporated Areas of Bertie County.
| Approximately 450 feet downstream of Governors Road | +73
Flat Swamp | At the confluence with Hoggards Mill Creek | +27 | Unincorporated Areas of Bertie County.
| Approximately 0.5 mile upstream of Browns School Road (State Route 1348) | +55
Flat Swamp Tributary 1 | At the confluence with Flat Swamp | +30 | Unincorporated Areas of Bertie County.
| Approximately 50 feet downstream of Bakertown Road (State Road 1366) | +34
Flat Swamp Tributary 2 | At the confluence with Flat Swamp | +31 | Unincorporated Areas of Bertie County.
| Approximately 1.4 miles upstream of Jessie Mack Road (State Route 1351) | +55
Flat Swamp Tributary 3 | At the confluence with Flat Swamp | +37 | Unincorporated Areas of Bertie County.
| Approximately 1,500 feet upstream of Doc Baker Road (State Route 1350) | +52
Flat Swamp Tributary 4 | At the confluence with Flat Swamp | +43 | Unincorporated Areas of Bertie County.
| Approximately 0.5 mile upstream of Browns School Road (State Route 1348) | +53
Fort Branch | At the Town of Aulander Extraterritorial Jurisdiction/Hertford County boundary | +55 | Unincorporated Areas of Bertie County, Town of Aulander.
| Approximately 1,430 feet upstream of East Elm Street | +64
Fort Branch Tributary 1 | At the confluence with Fort Branch | +60 | Town of Aulander.
| Approximately 0.5 mile upstream of North Commerce Street | +71
Fort Branch Tributary 2 | At the confluence with Fort Branch | +61 | Town of Aulander.
| Approximately 1,030 feet upstream of Bell Street | +69
Hoggards Mill Creek | At the confluence with Cashie River | +13 | Unincorporated Areas of Bertie County.
| At the confluences of Cucklemaker Creek and Flat Swamp | +27
Indian Creek | At the confluence with Roanoke River | +25 | Unincorporated Areas of Bertie County, Town of Lewiston Woodville.
| At the confluence of Jacks Branch | +44
Indian Creek Tributary 1 | At the confluence with Indian Creek | +40 | Unincorporated Areas of Bertie County.
| Approximately 1.5 miles upstream of the confluence with Indian Creek | +44
Jacks Branch | At the confluence with Indian Creek | +44 | Unincorporated Areas of Bertie County, Town of Lewiston Woodville.
| Approximately 0.5 mile downstream of Jack Branch Road (State Route 1119) | +53
Loosing Swamp | At the confluence with Quidccoson Swamp | +27 | Unincorporated Areas of Bertie County.
| At the confluence of Eason Swamp and Wildcat Swamp | +37
Loosing Swamp Tributary 1 | At the confluence with Loosing Swamp | +28 | Unincorporated Areas of Bertie County.
| Approximately 1.2 miles upstream of the confluence with Loosing Swamp | +41
Mill Swamp | At the confluence with Roquist Creek | +9 | Unincorporated Areas of Bertie County.
| Approximately 0.9 mile upstream of George Leggett Road (State Route 1523) | +20
Quidccoson Swamp | At the confluence with Loosing Swamp | +27 | Unincorporated Areas of Bertie County.
| Approximately 0.4 mile upstream of Cremo Road (State Road 1313) | +52
Quidccoson Swamp Tributary 1 | At the confluence with Quidccoson Swamp | +27 | Unincorporated Areas of Bertie County.
| Approximately 0.5 mile upstream of the confluence with Quidccoson Swamp | +36
Quidccoson Swamp Tributary 2 | At the confluence with Quidccoson Swamp | +32 | Unincorporated Areas of Bertie County.
| Approximately 1.1 miles upstream of U.S. 13 Highway | +48
Quidccoson Swamp Tributary 3 | At the confluence with Quidccoson Swamp | +35 | Unincorporated Areas of Bertie County.
| Approximately 0.9 mile upstream of the confluence with Quidccoson Swamp | +49
Quidccoson Swamp Tributary 4 | At the confluence with Quidccoson Swamp | +44 | Unincorporated Areas of Bertie County.
| Approximately 0.5 mile upstream of the confluence with Quidccoson Swamp | +53
Redbud Branch | At the confluence with Whiteoak Swamp | +35 | Unincorporated Areas of Bertie County, Town of Askewville.
| Approximately 600 feet upstream of North Askewville Railroad Street | +58
Roanoke River | Approximately 4.0 miles upstream of NC-45 | +7 | Unincorporated Areas of Bertie County.
| Approximately 3.5 miles upstream of Burke/Northampton County boundary | +37
Roanoke River Tributary 1 | At the confluence with Roanoke River | +9 | Unincorporated Areas of Bertie County.
| Approximately 0.4 mile upstream of Morning Road (State Route 1519) | +21
Roanoke River Tributary 2 | At the confluence with Roanoke River | +13 | Unincorporated Areas of Bertie County.
| Approximately 150 feet downstream of Cedar Landing Road (State Route 1521) | +22
Roanoke River Tributary 3 | At the confluence with Roanoke River | +13 | Unincorporated Areas of Bertie County.
| Approximately 1.5 miles upstream of Gillam Road (State Route 1542) | +16
Roquist Creek | At the confluence with Cashie River | +8 | Unincorporated Areas of Bertie County.
| Approximately 1,000 feet upstream of the confluence of Roquist Creek Tributary 5 | +39
Roquist Creek Tributary 1 | At the confluence with Roquist Creek | +27 | Unincorporated Areas of Bertie County.
| Approximately 0.7 mile upstream of the confluence with Roquist Creek | +33
Roquist Creek Tributary 2 | At the confluence with Roquist Creek | +29 | Unincorporated Areas of Bertie County.
| Approximately 0.9 mile upstream of the confluence with Roquist Creek | +35
Roquist Creek Tributary 3 | At the confluence with Roquist Creek | +29 | Unincorporated Areas of Bertie County.
| Approximately 1.6 miles upstream of the confluence with Roquist Creek | +36
Roquist Tributary 4 | At the confluence with Roquist Creek | +37 | Unincorporated Areas of Bertie County.
| Approximately 1.0 mile upstream of the confluence with Roquist Creek | +38
Roquist Tributary 5 | At the confluence with Roquist Creek | +39 | Unincorporated Areas of Bertie County.
| Approximately 0.9 mile upstream of Old King Farm Road (State Route 1116) | +48
Roquist Tributary 5A | At the confluence with Roquist Creek Tributary 5 | +41 | Unincorporated Areas of Bertie County.
| Approximately 600 feet downstream of Governors Road (State Highway 308) | +47
Sandy Run | At the confluence with Roanoke River | +34 | Unincorporated Areas of Bertie County.
| Approximately 0.7 mile upstream of Governors Road (State Highway 308) | +60
Sandy Run Tributary 2 | At the confluence with Sandy Run | +37 | Unincorporated Areas of Bertie County.
| Approximately 0.5 mile upstream of the confluence with Sandy Run | +58
Sandy Run Tributary 4 | At the confluence with Sandy Run | +39 | Unincorporated Areas of Bertie County.
| Approximately 0.5 mile upstream of the confluence with Sandy Run | +56
Sandy Run Tributary 5 | At the confluence with Sandy Run | +43 | Unincorporated Areas of Bertie County.
| Approximately 0.7 mile upstream of the confluence with Sandy Run | +56
Sandy Run Tributary 6 | At the confluence with Sandy Run | +46 | Unincorporated Areas of Bertie County.
| Approximately 1,850 feet upstream of Byrd Club Road | +58
Stony Creek | Approximately 1,100 feet downstream of the Bertie/Hertford County boundary | +25 | Unincorporated Areas of Bertie County.
| The confluence of Loosing Swamp | +27
Sutton Creek | At the confluence with Wading Place Creek | +8 | Unincorporated Areas of Bertie County.
| Approximately 1.2 miles upstream of State Highway 308 | +17
Unnamed Tributary #1 | Approximately 10 feet upstream of NC 17 | +21 | Unincorporated Areas of Bertie County.
| Approximately 0.7 mile upstream of U.S. 17 Highway N | +23
Wading Place Creek | At the confluence with Cashie River | +8 | Unincorporated Areas of Bertie County.
| Approximately 2.7 miles upstream of the confluence of Wading Place Creek Tributary 1 | +24
Wading Place Creek Tributary 1 | At the confluence with Wading Place Creek | +10 | Unincorporated Areas of Bertie County.
| Approximately 1.8 miles upstream of the confluence with Wading Place Creek | +31
Wahtom Swamp | At the confluence with Cashie River | +48 | Unincorporated Areas of Bertie County.
| Approximately 0.4 mile upstream of Harrells Siding Road (State Route 1208) | +69
Whiteoak Swamp | At the confluence with Cashie River | +24 | Unincorporated Areas of Bertie County, Town of Askewville.
| Approximately 500 feet upstream of Charles Taylor Road (State Route 1221) | +57
Whiteoak Swamp Tributary 1 | At the confluence with Whiteoak Swamp | +26 | Unincorporated Areas of Bertie County, Town of Askewville.
| Approximately 2,000 feet upstream of Pocosin Road (State Route 1343) | +33
Wildcat Swamp | At the confluence with Loosing Swamp and Eason Swamp | +37 | Unincorporated Areas of Bertie County.
| Approximately 1,240 feet upstream of the confluence of Wildcat Swamp Tributary 2 | +39
Wildcat Swamp Tributary 1 | At the confluence with Wildcat Swamp | +37 | Unincorporated Areas of Bertie County.
| Approximately 1.0 mile upstream of the confluence with Wildcat Swamp | +44
Wildcat Swamp Tributary 2 | At the confluence with Wildcat Swamp | +39 | Unincorporated Areas of Bertie County.
| Approximately 0.8 mile upstream of the confluence with Wildcat Swamp | +42
* National Geodetic Vertical Datum.
+ North American Vertical Datum.
# Depth in feet above ground.
ADDRESSES
Bertie County
Maps are available for inspection at Bertie County Building Inspections Department, 106 Dundee Street, Windsor, North Carolina.
Town of Askewville
Maps available for inspection at the Bertie County Building Inspection Department, 106 Dundee Street, Windsor, North Carolina.
Town of Aulander
Maps are available for inspection at Town of Aulander Municipal Building, 124 West Main Street, Aulander, North Carolina.
Town of Colerain
Maps are available for inspection at Colerain Town Hall, 101 B. Winton Road, Colerain, North Carolina.
Town of Kelford
Maps available for inspection at the Bertie County Building Inspection Department, 106 Dundee Street, Windsor, North Carolina.
Town of Lewiston Woodville
Maps available for inspection at the Lewiston Woodville Town Hall, 103 West Church Street, Lewiston Woodville, North Carolina.
Town of Roxobel
Maps available for inspection at the Roxobel Town Hall, 204 South Main Street, Roxobel, North Carolina.
Town of Windsor
Maps available for inspection at the Windsor Town Hall, 128 South King Street, Windsor, North Carolina.
Marion County, Tennessee, and Incorporated Areas
FEMA Docket No.: B-7756
Pryor Cove Branch | Confluence with Standifer Branch | +640 | Town of Jasper.
| Confluence with West Fork Pryor Cove Branch | +714
Sequatchie River | At confluence with Tennessee River | +616 | Town of Jasper.
| Approximately 575 feet upstream of U.S. Highway 41 | +620
Standifer Branch | At confluence of Town Creek | +619 | Town of Jasper.
| At confluence of Pryor Cove Branch | +639
West Fork Pryor Cove Branch | At confluence with Pryor Cove Branch | +714 | Town of Jasper.
| Approximately 250 feet upstream of Pryor Cove Road | +786
* National Geodetic Vertical Datum.
+ North American Vertical Datum.
# Depth in feet above ground.
ADDRESSES
Town of Jasper
Maps are available for inspection at 4460 Main Street, Jasper, TN 37347.

(Catalog of Federal Domestic Assistance No. 97.022, “Flood Insurance.”)

Dated: August 11, 2008.
David I. Maurstad,
Federal Insurance Administrator of the National Flood Insurance Program, Department of Homeland Security, Federal Emergency Management Agency.

[FR Doc. E8-19019 Filed 8-15-08; 8:45 am]

BILLING CODE 9110-12-P